OVERSEAS PRIVATE INVESTMENT CORPORATION

July 17, 2003, Board of Directors Meeting; Sunshine Act

Time and Date: Thursday, July 17, 2003, 1:30 p.m. (Open Portion). 1:45 p.m. (Closed Portion).

Place: Offices of the Corporation, Twelfth Floor Board Room, 1100 New York Avenue, NW., Washington, DC.

Status: Meeting open to the public from 1:30 p.m. to 1:45 p.m. Closed portion will commence at 1:45 p.m. (approx.).

Matters to be Considered:

1. President's Report.

2. Testimonial D. Cameron Friday.

3. Approval of April 24, 2003 Minutes (Open Portion).

Further Matters to be Considered: (Closed to the Public 1:45 p.m.)

1. Finance Project in Brazil

2. Finance Project in Russia

3. Insurance Project in Croatia

4. Approval of April 24, 2003 Minutes (Closed Portion)

5. Pending Major Projects

6. Reports

FOR FURTHER INFORMATION CONTACT: Information on the meeting may be obtained from Connie M. Downs at (202) 336-8438.

Dated: July 3, 2003.
Connie M. Downs,
Corporate Secretary, Overseas Private Investment Corporation.

[FR Doc. 03-17344 Filed 7-3-03; 12:10 am]

BILLING CODE 3210-01-M